INTERNATIONAL TRADE COMMISSION

Agency Form Submitted for OMB Review

AGENCY: United States International Trade Commission.

ACTION: In accordance with the provisions of the Paperwork Reduction Act of 1995 (44 U.S.C. chapter 35), the United States International Trade Commission (USITC or Commission), has submitted a request for approval of electronic form collection to the Office of Management and Budget for review.

PURPOSE OF INFORMATION COLLECTION: The form is for use by the Commission in connection with the USITC Electronic Document Imaging System On-Line (EDIS On-Line, or EOL) Web Public Pilot Project. The USITC EOL provides on-line, rapid and customized retrieval of docketed information and images of public documents filed with the USITC in conjunction with investigations conducted under the various international trade statutes and has been an Internet tool primarily for government users.

Representatives of the international trade bar and researchers have requested that EOL be made formally available to the public. The purpose of the public pilot project is to assess the additional costs of making this service formally available to the general public, identify more fully our customer base, and to evaluate benefits. The user registration form is required to accurately track usage and costs by user sector and geographic location. The form would appear on the USITC EOL Internet site (http://dockets.usitc.gov) and would need to be filled out only once. The commission expects to complete the pilot project by March 31, 2003.

Summary of Proposal

(1) Number of forms submitted: One.

(2) Title of form: USITC Electronic Docket Imaging System Pilot Project: “Create New User Account Form”.

(3) Type of request: New.

(4) Frequency of use: Single data gathering.

(5) Description of respondents: Government and private sector users of the USITC EOL Web Pilot Project.

(6) Estimated number of respondents: 600.

(7) Estimated total number of minutes to complete the forms: 2.0 minutes.

(8) Information obtained from the form that qualifies as confidential business information will be so treated by the Commission and not disclosed in a manner that would reveal the individual operations of a firm.

FOR FURTHER INFORMATION CONTACT: Copies of the form and supporting documents may be obtained from Marilyn Abbott (E-mail mabbott@usitc.gov or telephone 202-205-3431). Comments about the proposals should be directed to the Office of Management and Budget, Office of Information and Regulatory Affairs, Room 10102 (Docket Library), Washington, DC 20503, ATTENTION: Docket Librarian. All Comments should be specific, indicate which part of the questionnaire is objectionable, describe the concern in detail, and include specific suggested revisions or language changes. Copies of any comments should be provided to Donna R. Koehnke, Secretary, Office of the Secretary, U.S. International Trade Commission, 500 E Street SW, Washington, DC 20436, who is the Commission's designated Senior Official under the Paperwork Reduction Act.

Hearing impaired individuals are advised that information on this matter can be obtained by contacting our TTD terminal (telephone No. 202-205-1810). General information concerning the Commission may also be obtained by accessing its Internet server (http://www.usitc.gov).

Issued: May 16, 2000.
By order of the Commission.
Donna R. Koehnke,
Secretary.

[FR Doc. 00-13074 Filed 5-23-00; 8:45 am]

BILLING CODE 7020-02-P